DEPARTMENT OF DEFENSE

Department of the Army, U.S. Army Corps of Engineers

Notice of Intent To Prepare an Integrated Environmental Impact Statement for the Lower Columbia River Federal Navigation Channel Maintenance Plan

AGENCY: Department of the Army, U.S. Army Corps of Engineers, DoD.

ACTION: Notice of intent.

SUMMARY: The Portland District, U.S. Army Corps of Engineers (Corps) intends to prepare an integrated Environmental Impact Statement (EIS) and Federal Navigation Channel (FNC) Maintenance Plan, hereafter referred to as the Plan. The purpose of this Plan is to ensure the continued maintenance of the 43-foot deep Lower Columbia River FNC for the next 20 years. The Port of Longview, Port of Kalama, Port of Woodland, Port of Vancouver, and the Port of Portland (collectively the Sponsor Ports) are non-federal sponsors of the project, who will have Oregon and Washington State permitting requirements to execute on the Plan. The Corps will serve as the lead federal agency for purposes of the National Environmental Policy Act (NEPA). The Sponsor Ports will serve as cooperating agencies for purposes of NEPA. The Washington ports' activities in support of the proposed project will be subject to environmental review under chapter 43.21C Revised Code of Washington (RCW), the Washington State Environmental Policy Act (SEPA). The Washington Sponsor Ports will be co-lead agencies under SEPA, and the Port of Longview will serve as the nominal SEPA lead agency for purposes of SEPA compliance. To satisfy the requirements of NEPA and SEPA, the Corps and Sponsor Ports will be jointly preparing an integrated EIS for the Plan.

DATES: Written comments for consideration in the development of the scope of the joint NEPA/SEPA EIS are due to the addresses below no later than Thursday, November 16, 2017. Comments may also be made at the public scoping meetings listed in this notice. Additional information related to the public scoping process will be provided through advertisements placed in regional newspapers of general circulation, Public Notice, and on the project Web site at www.nwp.usace.army.mil/lcrchannelmaintenance.

ADDRESSES: Mailed comments may be sent to: U.S. Army Corps of Engineers, Portland District, P.O. Box 2946, Attn: CENWP-PM-E, Portland, Oregon 97208-2946. Email comments to: ColumbiaNavChannel@usace.army.mil. All written comments and materials received, including names and addresses, will become part of the administrative record and may be released to the public.

FOR FURTHER INFORMATION CONTACT: For questions regarding the Plan, the EIS, or special accommodations for scoping process participation, please contact Kate Wells, Environmental Resources Specialist; Attn: CENWP-PM-E, P.O. Box 2946, Portland, Oregon 97208-2946; (503) 808-4664; ColumbiaNavChannel@usace.army.mil.

SUPPLEMENTARY INFORMATION:

Project Background. The Lower Columbia River FNC project includes a main channel that is 43 feet deep and generally 600 feet wide, and extends upstream of the Mouth of Columbia River, River Mile (RM) 3 to Vancouver, WA, RM 105.5. The FNC also extends into lower Oregon Slough and includes vessel turning basins at Astoria in Oregon and Longview, Kalama, and Vancouver in Washington. The FNC is maintained using a combination of dredging and hydraulic control works (pile dikes). Advanced maintenance dredging is currently approved up to 5 feet below authorized depth (−48 feet) and up to 100 feet outside the authorized channel width. For the past several years, dredging 6 to 8 million cubic yards of localized sand shoals has been required annually to provide reliable service for deep-draft navigation. The Corps' policy requires all federally maintained navigation projects to demonstrate that there is sufficient dredged material placement capacity for a minimum of 20 years. An updated Plan for the Lower Columbia River FNC is needed now because the existing dredged material placement network is nearing capacity and, if insufficient capacity exists, navigation maintenance dredging may be negatively affected. Non-federal project sponsors for the Lower Columbia River FNC include the Port of Portland individually and as representative of the Port of St. Helens in Oregon, and the Port of Longview, the Port of Kalama, the Port of Woodland, and the Port of Vancouver in Washington. These ports are stakeholders in the channel depth maintenance of the Columbia River. Maintenance of the channel depth is necessary for the ports' and other channel users' continued industrial economic development and trade promotion. In 2015, the Lower Columbia River FNC was used to transport nearly 55 million tons of cargo valued at $22 billion. Vessels drafting the full authorized channel depth of 43 feet carried approximately 11 million tons of export shipments worth nearly $3 billion in 2015. Tonnage amounts refer to Corps Waterborne Commerce Statistics Center (WCSC) data for the Columbia & Lower Willamette Rivers below Vancouver, WA, and Portland, OR, Waterway as processed by the Corps Channel Portfolio Tool (CPT). Cargo values are estimated by the CPT based on the WCSC tonnage amounts multiplied by national average commodity unit price ($ per ton) data derived from USA Trade Online (https://usatrade.census.gov/).

Proposed Project. The Corps will develop the subject Plan in accordance with the procedures for a dredged material management plan in Engineering Regulation 1105-2-100, which governs Corps project formulation, evaluation, and implementation. As a dredged material management plan, it will ensure warranted and environmentally acceptable maintenance of the 43-foot Lower Columbia River FNC for the next 20 years. Specifically, the Plan will be designed to facilitate efficient management of dredged material, accounting for variability of shoaling processes, to provide a reliable channel for deep-draft navigation. The Plan will describe the results of investigations and analyses used to make determinations as to current and forecasted dredging needs and material placement capacity, potential additional placement sites, measures to reduce the need to dredge and avoidance, minimization, and mitigation measures as needed. As the non-federal sponsors of the Plan, the Sponsor Ports are required to obtain permits for the dredged material placement sites. To satisfy the requirements of NEPA and SEPA, the Corps and Sponsor Ports will be jointly preparing an integrated EIS for the Plan.

Alternatives. The Plan will be developed in accordance with Corps policy to accomplish channel maintenance, including dredged material placement, in the least costly manner that is consistent with sound engineering practice and meets all federal environmental laws. In addition to the No Action Alternative, in which case existing channel maintenance practices will continue in the absence of the Plan, dredged material management alternatives to be considered include: Management of existing sites to extend or expand capacity; various combinations of new sites involving different placement methods, locations and periods of use; measures to reduce dredging requirements, including hydraulic control works and changes to maintenance dimensions. Potential beneficial uses of dredged material (such as fish and wildlife habitat creation and ecosystem restoration) will be assessed. Additional alternatives could be developed during the scoping and evaluation process.

Scoping Process/Public Involvement. The Corps and Sponsor Ports invite all affected federal, state, and local agencies, affected Native American Tribes, and other interested parties to participate in the NEPA and SEPA process during development of the Plan and EIS. The purpose of the public scoping process is to provide information to the public, narrow the scope of analysis to significant environmental issues, and serve as a mechanism to solicit agency and public input on alternatives and issues of concern, and ensure full and open participation in scoping of the Draft EIS. A series of public scoping meetings is scheduled for October 2017. The specific dates, times, and locations of the meetings are provided below.

Public Scoping Meetings:

• Monday, October 2, 2017, 4:00 p.m. to 7:00 p.m., Cowlitz County Event Center, 1900 7th Avenue, Longview, Washington.

• Thursday, October 5, 2017, 4:00 p.m. to 7:00 p.m., Marshall Community Center, 1009 East McLoughlin Boulevard, Vancouver, Washington.

• Friday, October 6, 2017, 4:00 p.m. to 7:00 p.m., Charles Jordan Community Center, 9009 North Foss Avenue, Portland, Oregon.

• Monday, October 16, 2017, 4:00 p.m. to 7:00 p.m., Meriwether Place, 1070 Columbia Boulevard, St. Helens, Oregon.

• Tuesday, October 17, 2017, 4:00 p.m. to 7:00 p.m., Columbia River Maritime Museum Barbey Maritime Center, 1792 Marine Drive, Astoria, Oregon.

• Thursday, October 19, 2017, 4:00 p.m. to 7:00 p.m., Norse Hall, 444 State Route 4, Puget Island, Cathlamet, Washington.

Upon completion of the scoping process, the Draft Plan/Draft EIS will be developed. The DEIS will then be circulated for public review and comment. The Corps and Sponsor Ports expect to release the Draft EIS for public review and comment in 2018. The Corps will issue a Notice of Availability in the Federal Register announcing the release of the Draft EIS for public comment. The Sponsor Ports will publish a Notice of Availability of the Draft EIS for public comment in accordance with SEPA regulations. Documents and other important information related to the Plan/EIS will be available for review on the Corps' project Web site.

Aaron L. Dorf,
Colonel, Corps of Engineers, District Commander.

[FR Doc. 2017-18988 Filed 9-7-17; 8:45 am]

BILLING CODE 3720-58-P